DEPARTMENT OF AGRICULTURE

Forest Service

Forest Service Manual (FSM) 3800, Zero Code; State and Private Forestry Landscape Scale Restoration Program

AGENCY: Forest Service, USDA.

ACTION: Notice of availability for public comment.

SUMMARY: The U.S. Department of Agriculture (USDA), United States Forest Service (Agency), is issuing a proposed directive for the Agency's State and Private Forestry Landscape Scale Restoration (LSR) Program. The Landscape Scale Restoration Program (LSR) is a USDA, Forest Service State and Private Forestry (S&PF) competitive grant program that promotes collaborative, science-based restoration of priority forest landscapes.

DATES: Comments must be received, in writing, on or before December 16, 2020.

ADDRESSES: Comments may be submitted electronically to https://cara.ecosystem-management.org/Public/CommentInput?project=ORMS-2600. Written comments may be mailed to Steven Koehn, Director of Cooperative Forestry, State and Private Forestry, 1400 Independence Avenue SW, Washington, DC 20250-1124. All timely received comments, including names and addresses, will be placed in the record and will be available for public inspection and copying. The public may inspect comments received at https://cara.ecosystem-management.org/Public/ReadingRoom?project=ORMS-2600.

FOR FURTHER INFORMATION CONTACT: Margaret Haines, State and Private Forestry, National Program Specialist, 201 14th Street SW, Washington, DC 20250 (email: margaret.haines@usda.gov; phone: 202-384-7192). Additional information about the Landscape Scale Restoration Program may be obtained on the internet at https://www.fs.usda.gov/managing-land/private-land/landscape-scale-restoration.

Individuals who use telecommunication devices for the deaf (TDD) may call the Federal Information Relay Service (FIRS) at 1-800-877-8339 between 8:00 a.m. and 8:00 p.m., Eastern Standard Time, Monday through Friday.

SUPPLEMENTARY INFORMATION: This proposed directive would set forth direction for the State and Private Forestry Landscape Scale Restoration Progam and would implement State and Private Forestry (S&PF) Landscape Scale Restoration (LSR) Program as added by section 8102 of the Agriculture Improvement Act of 2018 (Pub. L. 115-334 (December 20, 2018)).

This manual is a new addition to the 3000 State and Private Forestry series and sets forth policy, responsibilities, and programmatic direction for the Landscape Scale Restoration Program. The Forest Service is seeking public comment on all content within the proposed manual. Comment is also invited on the sufficiency of the proposed manual in meeting its stated objectives, ways to enhance the utility and clarity of information within the manual, or ways to streamline processes outlined in the text.

Forest Service National Environmental Policy Act (NEPA) procedures exclude from documentation in an environmental assessment or impact statement “rules, regulations, or policies to establish servicewide administrative procedures, program processes, or instructions.” 36 CFR 220.6(d)(2). The Agency's conclusion is that these proposed directives fall within this category of actions and that no extraordinary circumstances exist as currently defined that require preparation of an environmental assessment or an environmental impact statement.

The Forest Service has also determined that the changes to the manual formulate standards, criterion, or guidelines applicable to a Forest Service program and are therefore publishing the proposed manual for public comment in accordance with 36 CFR part 216. The Forest Service is seeking public comment on the proposed directives, including the sufficiency of the proposed directives in meeting its stated objectives, ways to enhance the utility and clarity of information within the direction, or ways to streamline processes outlined.

After the public comment period closes, the Forest Service will consider timely comments that are within the scope of the proposed directives in the development of the final directives. A notice of the final directive, including a response to timely comments, will be posted on the Forest Service's web page at https://www.fs.usda.gov/about-agency/regulations-policies.

John Crockett,
Associate Deputy Chief, State and Private Forestry.

[FR Doc. 2020-25233 Filed 11-13-20; 8:45 am]

BILLING CODE 3411-15-P